DEPARTMENT OF HEALTH AND HUMAN SERVICES

Food and Drug Administration

[Docket No. FDA-2018-N-0235]

Orthopaedic Sensing, Measuring, and Advanced Reporting Technology Devices; Public Workshop; Request for Comments; Amendment of Notice

AGENCY: Food and Drug Administration, HHS.

ACTION: Notice.

SUMMARY: The Food and Drug Administration (FDA, the Agency, or we) is announcing an amendment to the notice of public workshop entitled “Orthopaedic Sensing, Measuring, and Advanced Reporting Technology (SMART) Devices.” That workshop was announced in the Federal Register of February 13, 2018. The amendment is being made to reflect a change in the DATES portion of the document. There are no other changes.

FOR FURTHER INFORMATION CONTACT: Andrew Baumann, Center for Devices and Radiological Health, Food and Drug Administration, 10903 New Hampshire Ave., Bldg. 62, Rm. 2110, Silver Spring, MD 20993, 301-796-2508, andrew.baumann@fda.hhs.gov.

SUPPLEMENTARY INFORMATION: In the Federal Register of February 13, 2018 (83 FR 6188), FDA announced that a public workshop entitled “Orthopaedic Sensing, Measuring, and Advanced Reporting Technology (SMART) Devices” would be held on April 30, 2018. On page 6188, in the third column, the DATES portion of the document is changed to reflect new start and end times to read as follows:

DATES: The public workshop will be held on April 30, 2018, from 8 a.m. to 5:30 p.m. Submit either electronic or written comments on this public workshop by May 29, 2018. See the SUPLLEMENTARY INFORMATION section for registration date and information.

Dated: March 21, 2018.
Leslie Kux,
Associate Commissioner for Policy.

[FR Doc. 2018-06064 Filed 3-26-18; 8:45 am]

BILLING CODE 4164-01-P